DEPARTMENT OF DEFENSE

Department of the Army, Corps of Engineers

Notice of Availability for the Final Environmental Impact Statement/Environmental Impact Report for the Burlington Northern Santa Fe (BNSF) Cajon Third Main Track Summit to Keenbrook, San Bernardino County, CA

AGENCY: Department of the Army, U.S. Army Corps of Engineers, DoD.

ACTION: Notice of Availability.

SUMMARY: Pursuant to section 102(2)(c) of the National Environmental Policy Act (NEPA) of 1969 (as amended), the U.S. Army Corps of Engineers, Los Angeles District (Corps) Regulatory Branch, in coordination with the County of San Bernardino and in cooperation with U.S. Forest Service, has completed a Final Environmental Impact Statement/Environmental Impact Report (EIS/EIR) for the Burlington Northern Santa Fe (BNSF) Third Main Track Summit to Keenbrook Project. The proposed BNSF project requires authorization pursuant to section 404 of the Clean Water Act for approximately 2.95 acres of fill placement in jurisdictional waters of the United States, including wetlands, to construct 15.9 miles of a new main track through the Cajon Pass in San Bernardino County, California. Three alternatives were co-equally analyzed in the EIS/EIR, including Alternative 1 (Reduced Footprint), Alternative 2 (Standard Engineering Design) and the No Action Alternative, as required by NEPA. As the project proponent and applicant, the BNSF Railway Co. selected Alternative 1 as its preferred alternative. The Corps determined Alternative 1 is the environmentally preferred alternative and the least environmentally damaging practicable alternative pursuant to the 404(b)(1) Guidelines (40 CFR 230.12).

FOR FURTHER INFORMATION CONTACT: Questions or comments concerning the Final EIS/EIR should be directed to Ms. Susan A. Meyer, Senior Project Manager, Regulatory Branch, U.S. Army Corps of Engineers, Los Angeles District, P.O. Box 532711, 915 Wilshire Boulevard, Los Angeles, CA 90053-2325, (808) 438-2137. Alternatively, comments can be submitted electronically to: susan.a.meyer@usace.army.mil.

SUPPLEMENTARY INFORMATION: Paper copies of the Final EIS/EIR will be made available to the public for review at the following libraries: Norman F. Feldheym Central Library (San Bernardino, California), Hesperia Branch Library (Hesperia, California), and the Rancho Cucamonga Public Library (Rancho Cucamonga, California). A CD copy of the document may be obtained by contacting Ms. Meyer in writing at the address or email above. Interested parties are invited to provide their comments on the Final EIS/EIR, which will become a part of the official record and will be considered in the final decision. Written comments must be received on or before April 16, 2007 and should be submitted to the contact listed above. A Record of Decision (ROD) will be issued by the Corps no earlier than 30 days after the Notice of Receipt for the Final EIS/EIR is published in the Federal Register. As a cooperating agency, the USFS intends to adopt the Final EIS/EIR and issue its own ROD in support of the issuance of a USFS special use permit.

Dated: March 7, 2007.
David J. Castanon,
Chief, Regulatory Branch.

[FR Doc. E7-4823 Filed 3-15-07; 8:45 am]

BILLING CODE 3710-KF-P